DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of Agency functions; (b) the accuracy of the Agency's estimate of the burden of the proposed collection of information; (c) the ways to enhance quality, utility, and clarity of the information to be collected; and (d) the ways to minimize the burden of the collection of information on respondents, through the use of automated collection techniques or other forms of information technology.

Proposed Project: ADAP Data Report—[NEW]

HRSA's AIDS Drug Assistance Program (ADAP) is funded through The Ryan White HIV/AIDS Program, Part B, Title XXVI of the Public Health Service Act, which provides grants to states and territories. ADAP provides medications for the treatment of HIV/AIDS. Program funds may also be used to purchase health insurance for eligible clients and for services that enhance access, adherence, and monitoring of drug treatments.

Each of the 50 states, the District of Columbia, Puerto Rico, and several territories receive ADAP grants. As part of the funding requirements, ADAP grantees currently submit quarterly reports concerning aggregate information on patients served, pharmaceuticals prescribed, pricing, as well as other sources of support to provide AIDS medication treatment, eligibility requirements, cost data, and coordination with Medicaid; however, aggregate data cannot be analyzed with the detail that is required to assess quality of care or to sufficiently account for the use of Ryan White HIV/AIDS Program Funds.

To address this limitation, HRSA's HIV/AIDS Bureau (HAB) is developing a client-level data system for ADAP grantees called the ADAP Data Report (ADR). The ADR consists of a grantee report and a client-level data file that will be submitted once every six months. Data collected through the ADR: Will enable HAB to answer specific questions about the utility of ADAP; will more precisely address program needs; and will monitor program performance.

Discussions were held with nine volunteer grantee agencies representing a variety of ADAP models, as a basis for the burden estimates for the ADR that are included. These burden estimates are presented in two tables. The first table represents the estimated burden for the first year, including the estimated time to adjust existing or develop new data collection systems to collect the elements that HAB is requesting. In the first year, grantees will be required to report the grantee and client reports twice. Therefore, the total number of grantees (57) is multiplied by the total number of times that each grantee must submit the specified report (2) to arrive at the total responses in a one year period (114). This total is multiplied by the number of hours to complete each report for each six month submission to calculate the total burden hours.

Table 1—Estimate of Burden for the First Year
Instrument | Number of respondents | Responses per respondent | Total responses | Hours per response | Total burden hours
Grantee Report | 57 | 2 | 114 | 12.50 | 1,425.00
Client Report | 57 | 2 | 114 | 34.19 | 3,897.66
Data Collection System | 57 | 1 | 57 | 826.00 | 47,082.00
Total |  |  |  |  | 52,404.66

The second table represents the estimated burden for subsequent years. Given that data collection system updates only impact the first six month reporting period, it is not included in the subsequent years' total burden. The grantee report burden remains unchanged, as the submission is consistent with current reporting requirements. The client report burden will decrease slightly in subsequent years as grantees become more proficient with reporting client level data, based on feedback they receive, as well as technical assistance resources that HRSA will provide.

Table 2—Estimate of Burden for Subsequent Years
Instrument | Number of respondents | Responses per respondent | Total responses | Hours per response | Total burden hours
Grantee Report | 57 | 2 | 114 | 12.50 | 1,425.00
Client Report | 57 | 2 | 114 | 24.00 | 2,736.00
Total |  |  |  |  | 4,161.00

E-mail comments to paperwork@hrsa.gov or mail the HRSA Reports Clearance Officer, Room 10-33, Parklawn Building, 5600 Fishers Lane, Rockville, MD 20857. Written comments should be received within 60 days of this notice.

Dated: July 15, 2011.
Reva Harris,
Acting Director, Division of Policy and Information Coordination.

[FR Doc. 2011-18477 Filed 7-21-11; 8:45 am]

BILLING CODE 4165-15-P